DEPARTMENT OF HEALTH AND HUMAN SERVICES

Health Resources and Services Administration

Testing Services and Scores for Foreign Health Care Workers To Demonstrate English Language Proficiency

AGENCY: Health Resources and Services Administration (HRSA), Department of Health and Human Services (HHS).

ACTION: Request for comments; notice of public meeting.

SUMMARY: HRSA announces a request for comments and notice of a public meeting to receive feedback on proposed updates to the list of testing services and scores for foreign health care workers to demonstrate English language proficiency pursuant to section 343 of the Illegal Immigration Reform and Immigrant Responsibility Act of 1996 (IIRIRA).

DATES:

• The public meeting will be held on May 28, 2019, 1:00 p.m.-4:00 p.m. ET.

• Comments should be submitted by June 11, 2019, 11:59 p.m. ET.

ADDRESSES: The public may attend the public meeting via teleconference and in-person. The conference call-in number is (888) 455-4758; Participant Passcode is 3016308. The address for the public meeting is 5600 Fishers Lane, Room 5N54, Rockville, Maryland 20857.

Comments should be sent to HRSAComments@hrsa.gov with the subject line: “Testing Services and Scores for Foreign Health Care Workers”.

FOR FURTHER INFORMATION CONTACT: LCDR Charlie Darr, Office of Global Health, HRSA, 5600 Fishers Lane, Rockville, Maryland 20857; via email: OGHpublicmeeting@hrsa.gov; or phone: (301) 443-2741.

SUPPLEMENTARY INFORMATION:

I. Background

The purpose of this request for comments and notice of public meeting is to elicit stakeholder feedback to HRSA regarding its proposed updates to the list of approved testing services and passing scores pursuant to section 343 of the IIRIRA and implementing regulations promulgated by the Department of Homeland Security (DHS). Specifically, HRSA is seeking comments regarding the current and proposed list of approved standardized tests and passing scores, required for certification of foreign health care workers seeking to demonstrate English language proficiency under section 343 of the IIRIRA and implementing regulations.

Under the authority of section 343 of IIRIRA, Public Law 104-208 (8 U.S.C. 1182(a)(5)(C)), as implemented by the Department of Homeland Security (DHS) at 8 CFR 212.15(g), standards for these English language requirements, as shown by an appropriate minimum score on one or more nationally recognized, commercially available, standardized assessments of the applicant's ability to speak and write, are set by the Secretary of HHS. Demonstration of English language proficiency is an element of the certification requirements for foreign health care workers seeking admission to the United States for the primary purpose of performing labor in a covered health care occupation. DHS implementing regulations authorize HHS to notify DHS of additions and deletions to the approved list of testing services and scores.

HRSA, under authority delegated by HHS, reviews and evaluates studies and other supporting materials presented to evaluate English language proficiency tests and language scoring level for the health occupations described in 8 CFR 212.15. Accordingly, HRSA is seeking public comment on proposed additions and deletions to the list of testing services and passing scores, including comments that address studies, methodologies, and analysis of such tests and passing scores.

Below is a Description of the HRSA-Proposed Updates to the Tests Listed in the Regulation at 8 CFR 212.15

HRSA is not proposing changes to the current standardized tests and scores for the following tests listed in the DHS regulation:

• Paper-delivered version of the Electronic Testing Service (ETS), Test of English as a Foreign Language (TOEFL-Paper-delivered Test);

• Test of English in International Communication (TOEIC); and

• International English Language Testing System

HRSA is proposing to add the following standardized tests (with indicated passing scores) to the tests currently listed in the DHS regulation:

• Internet-based version of the ETS TOEFL Test

The ETS TOEFL test, delivered via the internet, measures the test-taker's ability to use and understand English by evaluating combined reading, listening, speaking, and writing skills. Each section of the test (Reading, Listening, Speaking, and Writing) has a maximum score of 30 points, with a maximum total score of 120 points. The proposed overall passing score for occupational therapists and physical therapists is 89, including an aggregate minimum score of 63 on the Reading, Listening, and Writing sections, and a minimum score of 26 on the Speaking section. The proposed overall passing score for registered nurses and other foreign-educated health care workers whose occupations require attainment of a baccalaureate degree is 81, including an aggregate minimum score of 57 on the Reading, Listening, and Writing sections, and a minimum score of 24 on the Speaking section. The proposed overall passing score for occupations requiring less than a baccalaureate degree is 77, including an aggregate minimum score of 53 on the Reading, Listening, and Writing sections, and a minimum score of 24 on the Speaking section.

• TOEIC Speaking and Writing Tests

ETS has eliminated the Test of Spoken English and the Test of Written English from its currently available offerings and added the TOEIC Speaking Test and Writing Tests. Both the TOEIC Speaking and Writing tests are scored on a scale of 0-200. HRSA proposes a passing score of 160 on the TOEIC Speaking Test and 150 on the TOEIC Writing Test for registered nurses and other health care occupations requiring attainment of a baccalaureate degree, in addition to passing scores on the TOEIC test measuring Listening and Reading comprehension (passing score of 725 remains unchanged from current IIRIRA regulations). For health care occupations requiring less than a baccalaureate degree, HRSA proposes a passing score of 160 on the TOEIC Speaking Test and 150 on the TOEIC Writing Test; in addition to passing scores on the TOEIC test measuring Listening and Reading comprehension (passing score of 700 remains unchanged from current IIRIRA regulations).

• Pearson Test of English Academic (PTE Academic)

PTE Academic is a computer-based, internationally recognized, commercially available, standardized assessment of written and spoken English that measures the reading, writing, listening, and speaking abilities of test takers. The test includes an overall score (the Global Scale of English) that ranges from 10-90 and shows the overall English academic language ability of a test taker. Each test assesses an individual's communicative and enabling skills in sections (listening, reading, speaking, writing, grammar oral fluency, pronunciation, spelling, vocabulary, and written discourse) from a range of 10-90. HRSA proposes to add PTE Academic to the list of approved tests for registered nurses and other health care occupations requiring attainment of a baccalaureate degree, and for health care occupations requiring less than a baccalaureate degree. HRSA proposes a passing score of 55 with no individual communicative or enabling skills score below 50.

HRSA is proposing to delete the following standardized tests (which are no longer in use) from the tests currently listed in the DHS regulation:

• ETS: Test of Spoken English and Test of Written English—Eliminated from the current available offerings by ETS.

• TOEFL Computer-based Test—Discontinued by ETS.

II. Format

Request for Comment: Comments should be submitted to HRSA by June 11, 2019, 11:59 p.m. ET. Email comments to HRSAComments@hrsa.gov with the subject line: “Testing Services and Scores for Foreign Health Care Workers”.

Public Meeting: This meeting is open to the public. Attendance can be by teleconference or in person. To register for either the teleconference or in person attendance, please provide complete contact information for each attendee, including name, title, affiliation, address, email, telephone number, and indicate teleconference or in person attendance to OGHpublic meeting@hrsa.gov by 11:59 p.m. on Tuesday, May 14, 2019. Registration is free. Registrants will receive a registration confirmation once accepted via email.

Requests for Oral Presentations: During registration, you may request to present at the public meeting, and specify which topic(s) you wish to address. Individuals and organizations with common interests are urged to consolidate or coordinate their presentations, and request time for a joint presentation. All requests to make oral presentations are due by the close of registration on Tuesday, May 14, 2019.

Individuals who plan to attend and need special assistance or another reasonable accommodation should notify LCDR Charlie Darr (see the For Further Information Contact section) at least 10 business days prior to the meeting. Since this meeting occurs in a federal government building, attendees must go through a security check to enter the building. Non-U.S. citizen attendees must notify HRSA of their planned attendance at least 20 business days prior to the meeting in order to facilitate their entry into the building. All attendees are required to present government-issued identification prior to entry.

Dated: May 7, 2019.
George Sigounas,
Administrator.

[FR Doc. 2019-09730 Filed 5-10-19; 8:45 am]

BILLING CODE 4165-15-P